DEPARTMENT OF THE INTERIOR

Fish and Wildlife Service

[Docket No. FWS-HQ-IA-2015-0157; FXIA16710900000-156-FF09A300000]

Draft Environmental Assessment; Dallas Zoo Management; Dallas, Texas

AGENCY: Fish and Wildlife Service, Interior.

ACTION: Notice of availability.

SUMMARY: We, the U.S. Fish and Wildlife Service, are making available the final environmental assessment and finding of no significant impact under the National Environmental Policy Act regarding a permit application submitted by Dallas Zoo Management, on behalf of the Dallas Zoo, Sedgwick County Zoo, and Omaha's Henry Doorly Zoo. The three zoos have requested authorization under the Convention on International Trade in Endangered Species of Wild Fauna and Flora to import up to 18 live African elephants from Swaziland.

ADDRESSES:

Availability of Documents

Internet: You may obtain copies of the final environmental assessment and finding of no significant impact by going to the Federal e-Rulemaking Portal: http://www.regulations.gov. In the Search box, enter FWS-HQ-IA-2015-0157, which is the docket number for this notice. Click the “Open Docket Folder” link.

In-Person: Copies of the final environmental assessment and finding of no significant impact are also available for public inspection and review at the following location, by appointment and written request only, 8 a.m. to 4:30 p.m.: U.S. Fish and Wildlife Service, Division of Management Authority, 5275 Leesburg Pike, Falls Church, VA 22041.

FOR FURTHER INFORMATION CONTACT: Timothy Van Norman, Chief, Branch of Permits, Division of Management Authority, 5275 Leesburg Pike, MS-IA, Falls Church, VA 22041; or by phone at (703) 358-2350.

SUPPLEMENTARY INFORMATION: We are making available the final environmental assessment (EA) and finding of no significant impact (FONSI) under the National Environmental Policy Act of 1969 (NEPA) (42 U.S.C. 4321 et seq.) for an application submitted by Dallas Zoo Management for a permit to import up to 18 live African elephants (Loxadonta africana) from Swaziland. The elephants will be housed at the Dallas Zoo, Dallas, Texas; Sedgwick County Zoo, Wichita, Kansas; and Omaha's Henry Doorly Zoo, Omaha, Nebraska. The requested permit would authorize the importation, under the Convention on International Trade in Endangered Species of Wild Fauna and Flora (CITES) (27 U.S.T. 1087), of up to 3 adult females, 3 subadult males, and 12 subadult females. CITES is an international treaty designed to regulate international trade in certain animal and plant species that are affected by trade and are now, or potentially may become, threatened with extinction. These species are listed in the Appendices to CITES, which are available on the CITES Secretariat's Web site at http://www.cites.org. African elephants in Swaziland are listed in CITES Appendix I. The Service's regulations implementing CITES are found at title 50 of the Code of Federal Regulations (CFR) in part 23.

The African elephant is also classified as threatened under the U.S. Endangered Species Act (ESA) (16 U.S.C. 1531 et seq.), with a rule under section 4(d) of the ESA at 50 CFR 17.40(e). To import African elephants into the United States, ESA and CITES requirements must be met. Pursuant to the ESA section 4(d) rule for the African elephant (50 CFR 17.40(e)(3)(i)), live elephants may be imported if all requirements under Service regulations at 50 CFR part 13 (general permitting) and 50 CFR part 23 (CITES) are met.

Issuance of a CITES import permit is categorically excluded under Department of the Interior internal agency policy and procedures from requiring completion of an EA under NEPA (Departmental Manual Part 516, Chapter 8.5(C)(1)). However, we decided to prepare an EA in this case to help ensure that we have conducted a thorough review of all relevant factors and potential impacts on the quality of the human environment as envisioned under NEPA.

We announced the availability of the draft EA in a notice published in the Federal Register on October 22, 2015 (80 FR 64008). The EA considered the direct, indirect, and cumulative effects of the importation of up to 18 live elephants from Swaziland, including the measures that would be implemented to minimize and mitigate the impacts of the importation and housing of these animals. We received more than 8,000 comments on the draft EA; they may be found at http://www.regulations.gov in Docket No. FWS-HQ-IA-2015-0157.

Proposed Action

The proposed action is the issuance of a CITES permit by the Service for the importation of up to 18 African elephants from Swaziland. The elephants are currently housed in an enclosure at the Mkhaya Game Reserve, Swaziland. The elephants were removed from Mkhaya Game Reserve and Hlane National Park, Swaziland, due to overpopulation of elephants within the two protected areas and the negative impact the elephants were having on the vegetation and other wildlife species. Big Game Parks (BPG), the delegated authority responsible for implementation of Swaziland's Game Act of 1953, has determined that the number of elephants in the two protected areas must be reduced. Further, the reduction in the number of elephants within each of the protected areas will facilitate BGP's efforts to increase the population of black rhinoceros (Diceros bicornis), a critically endangered species, within the two protected areas.

Alternatives

We also considered two alternatives to the proposed action:

1. No Action—No CITES import permit would be issued. According to the applicant and BGP, the 18 elephants will not be returned to the two protected areas. Instead, if importation is not authorized, BGP has stated that they have no option but to cull the animals.

2. Issue a CITES import permit for a reduced number of elephants—This alternative is similar to the Proposed Action, in that the Service would issue an import permit, but the number of elephants authorized for import would be reduced. This alternative could result in some elephants being imported into the United States and housed at one or more of the three zoos. However, according to the applicant and BGP, the elephants that are not imported into the United States would be culled.

Finding of No Significant Impact

The proposed action of issuing the import permit for the 18 elephants is the preferred action. As evaluated in the EA, the proposed action is not expected to result in significant effects to the human environment within the meaning of NEPA and the regulations of the Council on Environmental Quality. Although we describe potential actions and consequences that could flow from each of the alternatives, we find there is no basis to infer that any such effects, even viewed broadly, will be significant. Therefore, based on a review and evaluation of the information contained in the EA, it is the Service's determination that the issuance of a permit authorizing the import of 18 African elephants from Swaziland will not have a significant effect on the quality of the human environment under the meaning of section 102(2)(c) of the National Environmental Policy Act of 1969 (as amended). As such, an Environmental Impact Statement is not required.

Authority

We provide this notice under NEPA and its implementing regulations (40 CFR 1506.6).

Brenda Tapia,
Program Analyst/Data Administrator, Branch of Permits, Division of Management Authority.

[FR Doc. 2016-01226 Filed 1-21-16; 8:45 am]

BILLING CODE 4333-15-P